DEPARTMENT OF HEALTH AND HUMAN SERVICES

Office of the Assistant Secretary for Planning and Evaluation; Meeting of the Advisory Council on Alzheimer's Research, Care, and Services

AGENCY: Assistant Secretary for Planning and Evaluation, HHS.

ACTION: Notice of meeting.

SUMMARY: This notice announces public meeting of the Advisory Council on Alzheimer's Research, Care, and Services (Advisory Council). Notice of these meetings is given under the Federal Advisory Committee Act (5 U.S.C. App. 2, section 10(a)(1) and (a)(2)). The Advisory Council on Alzheimer's Research, Care, and Services provides advice on how to prevent or reduce the burden of Alzheimer's disease and related dementias on people with the disease and their caregivers. The chairs of the three subcommittees (Research, Clinical Care, Long-Term Services and Supports) will summarize feedback from their subcommittees on the Draft National Plan to Address Alzheimer's Disease. This feedback will be discussed among the full Advisory Council.

DATES: Meeting Date: March 14, 2012 from 1 p.m. to 5 p.m. EST.

ADDRESSES: The meeting will be a teleconference. To attend, call 888-324-8105, pass-code 8952315. Please call 10 minutes prior to the beginning of the conference call to facilitate attendance. Individuals who wish to participate should send an email to napa@hhs.gov with “March 14 Meeting Registration” in the subject line.

Comments: Time is allocated on the agenda to hear public comments but due to the teleconference format, all members of the public wishing to make comments must send an email to napa@hhs.gov indicating a desire to make a public comment no later than Friday, March 9. Public comments will be limited to no more than 3 minutes per speaker. In lieu of oral comments, formal written comments may be submitted for the record to Helen Lamont, OASPE, 200 Independence Avenue SW., Room 424E, Washington, DC 20201. Comments may also be sent to napa@hhs.gov. Those submitting written comments should identify themselves and any relevant organizational affiliations.

FOR FURTHER INFORMATION CONTACT: Helen Lamont (202) 690-7996, helen.lamont@hhs.gov.

SUPPLEMENTARY INFORMATION: Topics of the Meeting: The Advisory Council will discuss the Draft National Plan to Address Alzheimer's Disease.

Procedure and Agenda: This teleconference meeting is open to the public. The chairs of the three subcommittees (Research, Clinical Care, Long-Term Services and Supports) will summarize feedback from their subcommittees on the Draft National Plan to Address Alzheimer's Disease. This feedback will be discussed among the full Advisory Council.

Authority: 42 U.S.C. 11225; Section 2(e)(3) of the National Alzheimer's Project Act. The panel is governed by provisions of Public Law 92-463, as amended (5 U.S.C. Appendix 2), which sets forth standards for the formation and use of advisory committees.

Dated: February 24, 2012.
Sherry Glied,
Assistant Secretary for Planning and Evaluation.

[FR Doc. 2012-5034 Filed 3-1-12; 8:45 am]

BILLING CODE P